DEPARTMENT OF HEALTH AND HUMAN SERVICES

Health Resources and Services Administration

Advisory Council; Notice of Meeting

In accordance with section 10(a)(2) of the Federal Advisory Committee Act (Pub. L. 92-463), announcement is made of the following National Advisory body scheduled to meet during the month of May 2000.

Name: HRSA AIDS Advisory Committee (HAAC).

Date and Time: May 17, 2000; 8:30 a.m.-5 p.m.; May 18, 2000; 8:30 a.m.-5 p.m.

Place: Doubletree Park Terrace, 1515 Rhode Island Avenue, NW, Washington, DC 20005, Telephone: (202) 232-7000.

The meeting is open to the public.

Agenda: Agenda items for the meeting include reauthorization issues of the Ryan White CARE Act, program updates, policy paper presentations, and health services research/evaluation meeting update and discussion.

Anyone requiring further information should contact Joan Holloway, HIV/AIDS Bureau, Parklawn Building, Room 7-13, 5600 Fishers Lane, Rockville, Maryland 20857, telephone (301) 443-5761.

Dated: April 12, 2000.
Jane M. Harrison,
Director, Division of Policy Review and Coordination.

[FR Doc. 00-9584 Filed 4-17-00; 8:45 am]

BILLING CODE 4160-15-P